DEPARTMENT OF TRANSPORTATION

Federal Aviation Administration

14 CFR Part 39

[Docket No. FAA-2007-0344; Directorate Identifier 2007-NM-149-AD; Amendment 39-15701; AD 2008-22-06]

RIN 2120-AA64

Airworthiness Directives; Boeing Model 767-200 and -300 Series Airplanes

AGENCY: Federal Aviation Administration (FAA), DOT.

ACTION: Final rule.

SUMMARY: We are adopting a new airworthiness directive (AD) for certain Boeing Model 767-200 and -300 series airplanes. This AD requires replacing the wire segments of the four Fuel Quantity Indicating System (FQIS) wire bundles with new, improved wire segments. This AD results from operator inspections of the FQIS wire bundles that revealed corrosion at the connections between the ground wire and shield of each of the four FQIS wire bundles. We are issuing this AD to prevent this corrosion, which could reduce system protection of the lightning shield and result in loss of the electrical grounding between the lightning shield and the airplane structure. This condition, in combination with flammable fuel vapors, could result in fuel tank explosions and consequent loss of the airplane.

DATES: This AD is effective December 17, 2008.

The Director of the Federal Register approved the incorporation by reference of a certain publication listed in this AD as of December 17, 2008.

ADDRESSES: For service information identified in this AD, contact Boeing Commercial Airplanes, P.O. Box 3707, Seattle, Washington 98124-2207; telephone 206-544-9990; fax 206-766-5682; e-mail DDCS@boeing.com; Internet https://www.myboeingfleet.com.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Philip Sheridan, Aerospace Engineer, Systems and Equipment Branch, ANM-130S, FAA, Seattle Aircraft Certification Office, 1601 Lind Avenue, SW., Renton, Washington 98057-3356; telephone (425) 917-6441; fax (425) 917-6590.

SUPPLEMENTARY INFORMATION:

Discussion

We issued a notice of proposed rulemaking (NPRM) to amend 14 CFR part 39 to include an airworthiness directive (AD) that would apply to certain Boeing Model 767-200 and -300 series airplanes. That NPRM was published in the Federal Register on December 19, 2007 (72 FR 71834). That NPRM proposed to require replacing the wire segments of the four Fuel Quantity Indicating System (FQIS) wire bundles with new, improved wire segments.

Comments

We gave the public the opportunity to participate in developing this AD. We considered the comments received from a single commenter.

Request To Clarify the Scope of the NPRM

Boeing asks that we clarify the scope of the NPRM with regard to a specific FQIS design that is affected by corrosion of the FQIS wire bundle. Boeing states that Boeing Alert Service Bulletin 767-28A0064, Revision 2, dated October 27, 2005 (referred to in the NPRM as the appropriate source of service information for accomplishing the specified actions), indicates that the NPRM is applicable only to airplanes on which the Honeywell system is installed; but the name of the affected system is not specified in the NPRM. Simmonds FQIS was installed on certain Model 767 airplanes in production; some airlines retrofitted their airplanes with the Simmonds system, but other airlines continue to use the Honeywell system. Boeing adds that the NPRM should apply only to airplanes on which the Honeywell system is installed.

We acknowledge Boeing's concern that the airplanes affected by this AD should be clearly defined. However, the applicability specified in paragraph (c) of the NPRM already refers to the effectivity in Revision 2 of the referenced service bulletin, which identifies affected airplanes as those having a Honeywell FQIS installed. Therefore, we have made no change to the AD in this regard.

Request To Add Credit Paragraph

Boeing asks that we add a sub-paragraph to paragraph (g) of the NPRM to give credit for airplanes retrofitted with a Simmonds FQIS in accordance with Boeing Service Bulletin 767-28A0043, Revision 2, dated December 20, 2002. Boeing states that this action is also considered an acceptable means to comply with the NPRM.

We do not agree with Boeing. The effectivity specified in Revision 2 of Boeing Alert Service Bulletin 767-28A0064 states, in part, “This service bulletin is for the airplanes with Honeywell FQIS . . .” If the FQIS on the airplane has been changed to a Simmonds FQIS, it is no longer a Group 1 airplane, as identified in the effectivity of Boeing Alert Service Bulletin 767-28A0064, Revision 2, and is not affected by this AD. We have made no change to the AD in this regard.

Request To Clarify Costs of Compliance Section

Boeing asks that we identify the origin of the number of affected airplanes specified in the Costs of Compliance section of the NPRM because Boeing is unable to verify the specified number. Boeing states that the referenced service bulletin lists the total number of affected airplanes with a Honeywell FQIS as 433.

We acknowledge Boeing's comment and provide the following clarification. We determined the number of airplanes in the worldwide fleet by extracting the number from the fleet database. We agree with Boeing that the number of worldwide airplanes referenced in the “Costs of Compliance” section of the NPRM should agree with the number referenced in Boeing Alert Service Bulletin 767-28A0064, Revision 2, which was developed using Boeing's records of Model 767 airplanes equipped with a Honeywell FQIS. Changing the number of worldwide airplanes will not affect the cost estimate in the AD. Therefore, we have changed the number of affected worldwide airplanes to 433 in the “Costs of Compliance” section below. The number of airplanes of U.S. registry remains the same.

Conclusion

We reviewed the relevant data, considered the comments received, and determined that air safety and the public interest require adopting the AD as proposed.

Costs of Compliance

There are 433 airplanes of the affected design in the worldwide fleet. This AD affects about 169 airplanes of U.S. registry. The replacement takes about 42 work hours per airplane, at an average labor rate of $80 per work hour. Required parts will cost about $1,756 per airplane. Based on these figures, the estimated cost of the AD for U.S. operators is $864,604, or $5,116 per airplane.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979), and

(3) Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-22-06 Boeing: Amendment 39-15701. Docket No. FAA-2007-0344; Directorate Identifier 2007-NM-149-AD.

Effective Date

(a) This airworthiness directive (AD) is effective December 17, 2008.

Affected ADs

(b) None.

Applicability

(c) This AD applies to Boeing Model 767-200 and -300 series airplanes, certificated in any category; as identified in Boeing Alert Service Bulletin 767-28A0064, Revision 2, dated October 27, 2005.

Unsafe Condition

(d) This AD results from operator inspections of the Fuel Quantity Indicating System (FQIS) wire bundles that revealed corrosion at the connections between the ground wire and shield of each of the four FQIS wire bundles. We are issuing this AD to prevent this corrosion, which could reduce system protection of the lightning shield and result in loss of the electrical grounding between the lightning shield and the airplane structure. This condition, in combination with flammable fuel vapors, could result in fuel tank explosions and consequent loss of the airplane.

Compliance

(e) You are responsible for having the actions required by this AD performed within the compliance times specified, unless the actions have already been done.

Replacement

(f) Within 36 months after the effective date of this AD: Replace the wire segments of the four FQIS wire bundles with new, improved wire segments, in accordance with the Accomplishment Instructions of Boeing Alert Service Bulletin 767-28A0064, Revision 2, dated October 27, 2005.

Credit for Actions Done Using Previous Service Information

(g) Actions accomplished before the effective date of this AD in accordance with Boeing Alert Service Bulletin 767-28A0064, Revision 1, dated February 21, 2002, are considered acceptable for compliance with the corresponding actions specified in this AD.

Alternative Methods of Compliance (AMOCs)

(h)(1) The Manager, Seattle Aircraft Certification Office (ACO), FAA, ATTN: Philip Sheridan, Aerospace Engineer, Systems and Equipment Branch, ANM-130S, FAA, Seattle ACO, 1601 Lind Avenue, SW., Renton, Washington 98057-3356; telephone (425) 917-6441; fax (425) 917-6590; has the authority to approve AMOCs for this AD, if requested using the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Material Incorporated by Reference

(i) You must use Boeing Alert Service Bulletin 767-28A0064, Revision 2, dated October 27, 2005, to do the actions required by this AD, unless the AD specifies otherwise.

(1) The Director of the Federal Register approved the incorporation by reference of this service information under 5 U.S.C. 552(a) and 1 CFR part 51.

(2) For service information identified in this AD, contact Boeing Commercial Airplanes, P.O. Box 3707, Seattle, Washington 98124-2207; telephone 206-544-9990; fax 206-766-5682; e-mail DDCS@boeing.com; Internet https://www.myboeingfleet.com.

(3) You may review copies of the service information incorporated by reference at the FAA, Transport Airplane Directorate, 1601 Lind Avenue, SW., Renton, Washington; or at the National Archives and Records Administration (NARA). For information on the availability of this material at NARA, call 202-741-6030, or go to: http://www.archives.gov/federal_register/code_of_federal_regulations/ibr_locations.html.

Issued in Renton, Washington, on October 9, 2008.
Ali Bahrami,
Manager, Transport Airplane Directorate, Aircraft Certification Service.

[FR Doc. E8-25308 Filed 11-10-08; 8:45 am]

BILLING CODE 4910-13-P